ENVIRONMENTAL PROTECTION AGENCY

40 CFR Part 180

Tolerances and Exemptions for Pesticide Chemical Residues in Food

CFR Correction

This rule is being published by the Office of the Federal Register to correct an editorial or technical error that appeared in the most recent annual revision of the Code of Federal Regulations.

In Title 40 of the Code of Federal Regulations, Parts 150 to 189, revised as of July 1, 2022, in section 180.415, in the table to paragraph (a), revise the entry for “Pepper/eggplant, subgroup 8-10” to add a footnote to read as follows:

§ 180.415 Aluminum tris (O-ethylphosphonate); tolerances for residues.

(a) * * *

Commodity | Parts per million
* * * * *
Pepper/eggplant, subgroup 8-10B¹ | 0.01
* * * * *
¹ There are no US registrations as of December 23, 2014.

* * * * *

[FR Doc. 2023-12936 Filed 6-14-23; 8:45 am]

BILLING CODE 0099-10-P